DEPARTMENT OF ENERGY

Federal Energy Regulatory Commission

[Docket No. ER06-432-000]

Southwest Power Pool, Inc.; Notice Allowing Post-Technical Conference Comments

April 11, 2006.

A technical conference was convened on Monday, April 10, 2006, from 1 p.m. to 4 p.m. at the offices of the Federal Energy Regulatory Commission, 888 First Street, NE., Washington, DC 20426. The technical conference addressed the two issues related to Southwest Power Pool, Inc.'s proposed credit policy, as discussed in the Commission's February 28, 2006 Order.¹ Specifically, discussion at the technical conference explored SPP's proposed total debt to total capitalization and debt service coverage scores and SPP's proposed $50,000 unsecured credit floor for not-for-profit entities. Prior to the technical conference, a notice was issued on March 22, 2006, that set forth several questions. The information submitted in response to the questions was discussed at the technical conference.

¹ Southwest Power Pool, Inc., 114 FERC ¶ 61,222 at P 32 and 62 (2006).

Take notice that the Commission will accept further comments pursuant to the discussion at the technical conference. These comments are due no later than 5 p.m. Eastern Time on Tuesday, April 25, 2006. Reply comments are due no later than 5 p.m. Eastern Time on Monday, May 8, 2006.

For further information please contact Jignasa Gadani at (202) 502-8608 or e-mail jignasa.gadani@ferc.gov.

Magalie R. Salas,
Secretary.

[FR Doc. E6-5727 Filed 4-17-06; 8:45 am]

BILLING CODE 6717-01-P